DEPARTMENT OF EDUCATION

Office of Special Education and Rehabilitative Services; Overview Information; Technical Assistance and Dissemination to Improve Services and Results for Children With Disabilities—Regional Resource Center; Notice Inviting Applications for New Awards for Fiscal Year (FY) 2010

Note: This notice inviting applications is open to qualified applicants to serve the Region 3 area only.

Catalog of Federal Domestic Assistance (CFDA) Number: 84.326R.

Note: On July 10, 2009, we published a Notice Inviting Applications for New Awards for FY 2009 in the Federal Register (74 FR 33226) inviting applications for CFDA Number 84.326R using the Technical Assistance and Dissemination To Improve Services and Results for Children With Disabilities—Regional Resource Centers priority. We invited applications in that notice to support the operation of six Regional Resource Centers (RRCs) located in geographic regions established by the Secretary. Two applications were submitted to serve Region 3 and neither was recommended for funding. Through this notice, we invite applications for another competition for a Regional Resource Center to serve Region 3.

Dates:

Applications Available: December 3, 2009.

Deadline for Transmittal of Applications: February 1, 2010.

Deadline for Intergovernmental Review: April 2, 2010.

Full Text of Announcement

I. Funding Opportunity Description

Purpose of Program: The purpose of the Technical Assistance and Dissemination To Improve Services and Results for Children with Disabilities program is to promote academic achievement and to improve results for children with disabilities by providing technical assistance (TA), supporting model demonstration projects, disseminating useful information, and implementing activities that are supported by scientifically based research.

Priority: In accordance with 34 CFR 75.105(b)(2)(v), this priority is from allowable activities specified in the statute or otherwise authorized in the statute (see sections 663 and 681(d) of the Individuals with Disabilities Education Act (IDEA), 20 U.S.C. 1400, et seq.).

Absolute Priority: For FY 2010 and any subsequent year in which we make awards based on the list of unfunded applicants from this competition, this priority is an absolute priority. Under 34 CFR 75.105(c)(3), we consider only applications that meet this priority.

This priority is:

Technical Assistance and Dissemination To Improve Services and Results for Children With Disabilities—Regional Resource Center.

Background:

Over the last four decades, the Office of Special Education Programs (OSEP) has supported Regional Resource Centers to provide TA that is targeted to meet State-specific needs related to meeting the program requirements under Parts B and C of IDEA.

Historically, each RRC functioned independently, serving primarily as a TA provider to State educational agencies (SEAs) in the RRC's region helping the SEAs address self-identified needs related to providing services to children with disabilities. In 1998, RRCs' traditional role as TA providers expanded when they also began serving as brokers of TA, linking SEAs and local educational agencies (LEAs) to relevant OSEP-funded TA centers. Over time, and as OSEP developed its monitoring of Part C programs and issued monitoring reports from 1998 through 2003, RRCs began providing TA in their respective regions to the State Part C lead agencies (LAs).

When IDEA was last reauthorized in 2004, the increased general supervision responsibilities of SEAs and LAs under Parts B and C, respectively, also increased the need for general supervision support and collaboration among RRCs and other OSEP-funded TA Centers (i.e., the National Dropout Prevention Center for Students with Disabilities and the Data Accountability Center) to provide coordinated and meaningfully informed TA. Specifically, sections 616(b) and 642 of IDEA require each State to have in place a State Performance Plan (SPP) that evaluates the State's efforts to implement requirements under Parts B and C of IDEA and that describes how the State will improve its implementation of these requirements. The SPP must include measurable and rigorous targets for quantifiable indicators in the priority areas described in section 616(a)(3) of IDEA. These priority areas for Part B are—providing a free appropriate public education (FAPE) in the least restrictive environment (LRE); reducing disproportionate representation of racial and ethnic groups in special education and related services, to the extent the representation is the result of inappropriate identification; and ensuring effective general supervision, including child find, transition, and dispute resolution. These priority areas for Part C are—providing early intervention services in natural environments and ensuring effective general supervision, including child find, transition, and dispute resolution.

Additionally, sections 616 and 642 of IDEA require each SEA and LA to conduct many activities annually. Each SEA and LA must submit an Annual Performance Report (APR) to the Secretary on the State's progress in meeting its targets in each of the priority areas under Parts B and C of IDEA. There are 20 priority indicators under Part B (including early childhood transition, postsecondary transition, graduation, and dropout prevention) and 14 priority indicators under Part C (including provision of early intervention services in the natural environment, timely provision of services, timely evaluation, and early childhood transition). OSEP issues annual letters of determination and response tables for each State under Parts B and C of IDEA based in large part on the State's APR data in each of these priority indicator areas.

In turn, SEAs must monitor and evaluate LEAs' implementation of Part B, and State LAs must monitor and evaluate the implementation of Part C by early intervention service (EIS) programs. Each year, the SEA and LA must publicly report on the performance of each LEA or EIS program in each of the priority areas and issue a local “determination.” Through such reporting, SEAs and LAs are responsible for ensuring both the continuous improvement of results and functional outcomes for children with disabilities and the timely correction of noncompliance with IDEA requirements.

The Department first issued its annual determinations under sections 616 and 642 of IDEA in 2007 and made one of the following determinations for each State: (1) The State meets IDEA requirements, (2) the State needs assistance, or (3) the State needs intervention. Under section 616(e)(1) of IDEA, when conducting its second annual determinations in 2008, the Department was required to take enforcement actions for those States determined to be in “needs assistance” for two consecutive years. One of those enforcement options was advising a State of the availability of TA, including the resources of the RRCs and the need to utilize such TA. In 2008, the Department advised 25 Part B SEAs and 17 Part C LAs determined to be in “needs assistance” for two consecutive years of the requirement to access TA under section 616(e)(1)(A) of IDEA. In 2009, the Department took specific enforcement actions for those States determined to be in “needs intervention” for three consecutive years, which may include the development of an improvement plan or corrective action plan. These enforcement options will require continued and additional TA support of SEAs and State LAs.

In addition, the American Recovery and Reinvestment Act of 2009 (ARRA), Public Law 111-5, identifies four education reform areas that the Secretary considers to be central to improving the results for all students, including students with disabilities. These reform areas include: (1) Implementing rigorous college- and career-ready standards and assessments; (2) improving the collection and use of data; (3) improving teacher effectiveness; and (4) supporting the struggling schools. These four ARRA reform areas directly align with the SPP priority indicators and the SPP targets. The following Web site provides more information on ARRA: http://www.ed.gov/policy/gen/leg/recovery/factsheet/stabilization-fund.html.

To ensure that RRCs are available to meet these increased TA needs, OSEP has determined that new funding is needed to support consistent and collaborative work between the six regional RRCs while addressing the increased SEA and LA general supervision responsibilities under Parts B and C of IDEA.

Priority:

The purpose of this priority is to fund one cooperative agreement to support the operation of an RRC in Region 3 that will collaborate with the five other RRCs to provide coordinated and research-based TA to SEAs and LAs to help them: (1) Meet Federal accountability requirements under IDEA; (2) implement systems of general supervision that improve results and functional outcomes for children with disabilities; (3) work with OSEP-funded TA centers, as appropriate, to develop, identify, and implement evidence-based tools and practices to increase the likelihood that SEAs and LAs will meet their SPP targets in the priority areas described in section 616(a)(3), such as providing FAPE in the LRE, early childhood transition, secondary transition, postsecondary outcomes, graduation, and dropout prevention; and (4) develop and implement strategies that address the four education reform areas and other critical goals that align with the indicators established under IDEA.

The Secretary establishes the following geographic regions for the RRCs:

Region 1: Connecticut, Maine, Massachusetts, New Hampshire, New Jersey, New York, Pennsylvania, Rhode Island, and Vermont.

Region 2: Delaware, the District of Columbia, Kentucky, Maryland, North Carolina, South Carolina, Tennessee, Virginia, and West Virginia.

Region 3: Alabama, Arkansas, Florida, Georgia, Louisiana, Mississippi, Oklahoma, Texas, Puerto Rico, and the Virgin Islands.

Region 4: Illinois, Indiana, Iowa, Michigan, Minnesota, Missouri, Ohio, and Wisconsin.

Region 5: Arizona, Colorado, Kansas, Montana, New Mexico, Nebraska, North Dakota, South Dakota, Utah, Wyoming, and the Bureau of Indian Affairs.

Region 6: Alaska, California, Hawaii, Idaho, Nevada, Oregon, Washington, American Samoa, Guam, the Commonwealth of the Northern Marianas, the Federated States of Micronesia, the Republic of the Marshall Islands, and the Republic of Palau.

To be considered for funding under this absolute priority, applicants must meet the application requirements contained in this priority. All projects funded under this absolute priority also must meet the programmatic and administrative requirements specified in the priority.

Application Requirements. An applicant must include in its application—

(a) A logic model for the RRC that depicts, at a minimum, the goals, activities, outputs, and outcomes of the proposed RRC. A logic model communicates how the RRC will achieve its outcomes and provides a framework for both the formative and summative evaluations of the RRC;

Note: The following Web site provides more information on logic models and lists multiple online resources: http://www.cdc.gov/eval/resources.htm.

(b) A plan to implement the activities described in the Project Activities section of this priority;

(c) A plan, linked to the proposed project's logic model, for a formative evaluation of the proposed project's activities. The plan must describe how the formative evaluation will use clear performance objectives to ensure continuous improvement in the operation of the proposed project, including objective measures of progress in implementing the project and ensuring the quality of products and services;

(d) A budget for a summative evaluation to be conducted by an independent third party;

(e) A budget for attendance at the following:

(1) A one day kick-off meeting to be held in Washington, DC, within four weeks after receipt of the award, and an annual two-day planning meeting held in Washington, DC, with the OSEP Project Officer and the other five OSEP-funded RRCs during each subsequent year of the project period. The initial kick-off meeting must allow time for the RRC to be briefed on the action plan that was collectively started in October 2009 by the other five RRCs to address how the six RRCs will share resources when appropriate (see, e.g., paragraph (f) below). The Region 3 RRC will provide input to this action plan during meetings designated by the Project Officer and held with the other five OSEP-funded RRCs. The action plans for years two and three must be developed collaboratively with the other five OSEP-funded RRCs at the close of years one and two respectively.

(2) A three-day Project Directors' Conference in Washington, DC, during each year of the project period.

(3) A four-day Technical Assistance and Dissemination Conference in Washington, DC, during each year of the project period.

(4) Four two-day trips annually to attend Department briefings, Department-sponsored conferences, and other meetings, as requested by OSEP;

(f) A line item in the proposed budget that will support the cost, shared among all of the RRCs when established, for hiring, at a minimum, one full-time coordinator (1 FTE) who will manage the collaborative work of the RRCs; and

Note: Over the last two decades the RRCs received direct support (e.g., workgroup facilitation and technology development support, etc.) from the OSEP-funded Federal Resource Center (FRC). In 2008 the FRC was recompeted as the Technical Assistance Coordination Center (TACC). TACC is a coordination hub where the OSEP-funded centers and other Federal agencies find resources, collaborate, and problem-solve in order to conduct their work without duplicating efforts. RRCs will receive the same level of support from TACC as all the other centers; however, the direct support once provided by the FRC (i.e., the coordination of activities with the small States consortium, coordination of cross-RRC workgroups, the planning and facilitation of monthly RRC meetings) will no longer be available to the RRCs.

(g) A line item in the proposed budget for an annual set-aside of five percent of the grant amount to support emerging needs that are consistent with the proposed RRCs' shared project activities, as those needs are identified in consultation with OSEP.

Note: With approval from the OSEP Project Officer, the RRC must reallocate any remaining funds from this annual set-aside no later than the end of the third quarter of each budget period.

Project Activities. To meet the requirements of this priority, the RRC must, at a minimum, conduct the following activities:

Knowledge Development Activities.

The RRC, in collaboration with the other five RRCs, must—

(a) During the first year of the project conduct a systematic review of the former RRCs and other OSEP-funded TA Centers, as appropriate, that—

(1) Analyzes existing data (e.g., data on previously developed scopes of work, tools, products, and staffing) collected on the nature of the TA provided and its evidence-based; and

(2) By the end of year one, produces a summary report regarding the most effective types of TA and the best practices for implementing effective TA in SEAs and LAs; and

(b) Conduct an annual review of—

(1) Part B and Part C SPPs and APRs to evaluate States' progress in meeting their targets in each of the priority areas under IDEA; and

(2) OSEP letters of determination and response tables, including letters of determination and response tables of States determined to be in “needs assistance” for two consecutive years and States determined to be in “needs intervention” for three consecutive years, in order to develop an action plan for supporting SEAs and LAs in their development of improvement and corrective action plans.

Technical Assistance and Dissemination Activities.

The RRC must—

(a) Collaborate and communicate on an ongoing basis with the other five RRCs, the other OSEP-funded TA&D Centers, and the other centers funded by the Department's Office of Elementary and Secondary Education (e.g., The Regional Comprehensive Centers and the Equity Assistance Centers) to provide coordinated and research-based TA to SEAs and LAs;

(b) In collaboration with the other RRCs and OSEP-funded TA Centers, as appropriate—

(1) Develop action plans and activities based on OSEP-identified priorities, i.e., all indicators found in the Part B and C SPPs. Action plans and activities may include items mentioned in activities (a), (b), and (c) under this section but are not limited to these activities;

(2) Develop TA tools and products related to SPP and APR requirements and evaluate the effectiveness of the implementation of these tools and products through annual assessments;

(3) Provide coordinated and research-based TA to SEAs and LAs to help them establish and implement strategies that address the four goals outlined in the ARRA and that are aligned with the indicators established under IDEA and other critical priorities related to improving outcomes for children with disabilities such as developing seamless, high-quality early childhood programs; scaling up successful models and strategies; and helping more students enter and complete college and get jobs; and

(4) Assist SEAs and LAs in refining and improving State policies, procedures, or both related to the Federal accountability requirements under IDEA; and

(c) Provide coordinated and research-based TA to SEAs and LAs to support them in meeting current IDEA requirements and OSEP initiatives for—

(1) Meeting APR reporting requirements (e.g., data collection and analysis, and development, implementation, and evaluation of evidence-based improvement activities);

(2) Identifying improvement activities and, through annual assessments, determining if the newly identified activities are effective;

(3) Developing and implementing corrective action plans for LEAs and local providers, including implementation of enforcement actions for States in “needs intervention” for three consecutive years; and

(4) Improving general supervision at the SEA and LA level, including improving skills in fiscal management, policy development, practices and procedures, monitoring systems, and the timely correction of noncompliance with IDEA requirements.

Leadership and Coordination Activities.

The RRC, in collaboration with the other five RRCs, must do the following:

(a) Establish and maintain an advisory committee to review the activities and outcomes of the RRCs' collaborative work and provide programmatic support and advice throughout the project period. The committee must include, but is not limited to, SEA special education directors, Part C coordinators, directors of OESE-funded Regional Comprehensive Centers, and directors of OSEP-funded TA centers. The RRC must submit names of proposed members of the advisory committee to OSEP for approval within four weeks after receipt of the award. These names will be considered along with the names submitted earlier by the other five RRCs. At a minimum, the advisory committee must meet on an annual basis either in Washington, DC, or by electronic means.

(b) Collaborate, on an ongoing basis, with OSEP-funded TA projects, especially those working on SPP indicators and general supervision. This collaboration must include the joint development of products, the coordination of TA services, and the planning and carrying out of TA meetings and events that are addressed in annual work plans.

(c) Participate in, organize, or facilitate, as directed by OSEP, communities of practice (http://www.tadnet.org/communities) that are aligned with the RRCs' objectives as a way to support discussions and collaboration among key stakeholders.

(d) Submit, prior to developing any new product, whether paper or electronic, through the Proposed Product Review (PPR) system, to the OSEP Project Officer for approval, a proposal describing the content and purpose of the product.

(e) Maintain and upgrade the existing RRCs' Web site portal. (This portal can be found at www.rrfcnetwork.org). This Web site must continue to meet government or industry-recognized standards for accessibility and must link to http://www.tadnet.org.

(f) Contribute, on an ongoing basis, updated information on the RRCs' services to OSEP's mega database (http://matrix.tadnet.org). The mega database provides current information on Department-funded TA services to a range of stakeholders.

(g) Coordinate with the National Dissemination Center for Individuals with Disabilities to develop an efficient and high-quality dissemination strategy that reaches broad audiences. The RRC must report to the OSEP Project Officer the outcomes of these coordination efforts.

(h) Maintain ongoing communication with the OSEP Project Officer through monthly phone conversations, e-mail communication, and monthly reports.

Fourth and Fifth Years of the RRC:

In deciding whether to continue funding the RRC for the fourth and fifth years, the Secretary will consider the requirements of 34 CFR 75.253(a), and in addition—

(a) The recommendation of a review team consisting of experts selected by the Secretary. This review will be conducted during a one-day intensive meeting in Washington, DC, that will be held during the last half of the second year of the project period;

(b) The timeliness and effectiveness with which all requirements of the negotiated cooperative agreement have been or are being met by the RRC; and

(c) The quality, relevance, and usefulness of the RRC's activities and products and the degree to which its activities and products have contributed to changed practice and improved State Parts B and C general supervision systems, SPPs, and APRs.

Waiver of Proposed Rulemaking: Under the Administrative Procedure Act (APA) (5 U.S.C. 553), the Department generally offers interested parties the opportunity to comment on proposed priorities and requirements. Section 681(d) of IDEA, however, makes the public comment requirements of the APA inapplicable to the priority in this notice.

Program Authority: 20 U.S.C. 1463 and 1481.

Applicable Regulations: The Education Department General Administrative Regulations (EDGAR) in 34 CFR parts 74, 75, 77, 79, 80, 81, 82, 84, 85, 86, 97, 98, and 99.

Note: The regulations in 34 CFR part 79 apply to all applicants except federally recognized Indian tribes.

Note: The regulations in 34 CFR part 86 apply to institutions of higher education (IHEs) only.

II. Award Information

Type of Award: Cooperative agreement.

Estimated Available Funds: The Administration has requested $48,048,664 for the Technical Assistance and Dissemination to Improve Services and Results for Children with Disabilities program for FY 2010, of which we intend to use an estimated $1,300,000 for this Regional Resource Center competition. The actual level of funding, if any, depends on final congressional action. However, we are inviting applications to allow enough time to complete the grant process if Congress appropriates funds for this program.

Maximum Awards: We will reject any application that proposes a budget exceeding $1,300,000 for a single budget period of 12 months. The Assistant Secretary for Special Education and Rehabilitative Services may change the maximum amount through a notice published in the Federal Register.

Estimated Number of Awards: 1.

Note: The Department is not bound by any estimates in this notice.

Project Period: Up to 60 months.

III. Eligibility Information

1. Eligible Applicants: SEAs; LEAs, including public charter schools that are considered LEAs under State law; IHEs; other public agencies; private nonprofit organizations; outlying areas; freely associated States; Indian tribes or tribal organizations; and for-profit organizations.

2. Cost Sharing or Matching: This competition does not require cost sharing or matching.

3. Other: General Requirements—(a) The projects funded under this competition must make positive efforts to employ and advance in employment qualified individuals with disabilities (see section 606 of IDEA).

(b) Applicants and grant recipients funded under this competition must involve individuals with disabilities or parents of individuals with disabilities ages birth through 26 in planning, implementing, and evaluating the projects (see section 682(a)(1)(A) of IDEA).

IV. Application and Submission Information

1. Address to Request Application Package: Education Publications Center (ED Pubs), P.O. Box 1398, Jessup, MD 20794-1398. Telephone, toll free: 1-877-433-7827. FAX: (301) 470-1244. If you use a telecommunications device for the deaf (TDD), call, toll free: 1-877-576-7734.

You can contact ED Pubs at its Web site, also: http://www.ed.gov/pubs/edpubs.html or at its e-mail address: edpubs@inet.ed.gov.

If you request an application package from ED Pubs, be sure to identify this program or competition as follows: CFDA number 84.326R.

Individuals with disabilities can obtain a copy of the application package in an accessible format (e.g., braille, large print, audiotape, or computer diskette) by contacting the person or team listed under Accessible Format in section VIII of this notice.

2. Content and Form of Application Submission: Requirements concerning the content of an application, together with the forms you must submit, are in the application package for this competition.

Page Limit: The application narrative (Part III of the application) is where you, the applicant, address the selection criteria that reviewers use to evaluate your application. You must limit the application narrative to the equivalent of no more than 70 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The page limit does not apply to Part I, the cover sheet; Part II, the budget section, including the narrative budget justification; Part IV, the assurances and certifications; or the one-page abstract, the resumes, the bibliography, the references, or the letters of support. However, the page limit does apply to the application narrative in Part III.

We will reject your application if you exceed the page limit or if you apply other standards and exceed the equivalent of the page limit.

3. Submission Dates and Times:

Applications Available: December 3, 2009.

Deadline for Transmittal of Applications: February 1, 2010.

Applications for grants under this competition may be submitted electronically using the Electronic Grant Application System (e-Application) accessible through the Department's e-Grants site, or in paper format by mail or hand delivery. For information (including dates and times) about how to submit your application electronically, or in paper format by mail or hand delivery, please refer to section IV.6. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: April 2, 2010.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this competition may be submitted electronically or in paper format by mail or hand delivery.

a. Electronic Submission of Applications.

If you choose to submit your application to us electronically, you must use e-Application, accessible through the Department's e-Grants Web site at: http://e-grants.ed.gov.

While completing your electronic application, you will be entering data online that will be saved into a database. You may not e-mail an electronic copy of a grant application to us.

Please note the following:

• Your participation in e-Application is voluntary.

• You must complete the electronic submission of your grant application by 4:30:00 p.m., Washington, DC time, on the application deadline date. E-Application will not accept an application for this competition after 4:30:00 p.m., Washington, DC time, on the application deadline date. Therefore, we strongly recommend that you do not wait until the application deadline date to begin the application process.

• The hours of operation of the e-Grants Web site are 6:00 a.m. Monday until 7:00 p.m. Wednesday; and 6:00 a.m. Thursday until 8:00 p.m. Sunday, Washington, DC time. Please note that, because of maintenance, the system is unavailable between 8:00 p.m. on Sundays and 6:00 a.m. on Mondays, and between 7:00 p.m. on Wednesdays and 6:00 a.m. on Thursdays, Washington, DC time. Any modifications to these hours are posted on the e-Grants Web site.

• You will not receive additional point value because you submit your application in electronic format, nor will we penalize you if you submit your application in paper format.

• You must submit all documents electronically, including all information you typically provide on the following forms: The Application for Federal Assistance (SF 424), the Department of Education Supplemental Information for SF 424, Budget Information—Non-Construction Programs (ED 524), and all necessary assurances and certifications. You must attach any narrative sections of your application as files in a .DOC (document), .RTF (rich text), or .PDF (Portable Document) format. If you upload a file type other than the three file types specified in this paragraph or submit a password protected file, we will not review that material.

• Your electronic application must comply with any page limit requirements described in this notice.

• Prior to submitting your electronic application, you may wish to print a copy of it for your records.

• After you electronically submit your application, you will receive an automatic acknowledgment that will include a PR/Award number (an identifying number unique to your application).

• Within three working days after submitting your electronic application, fax a signed copy of the SF 424 to the Application Control Center after following these steps:

(1) Print SF 424 from e-Application.

(2) The applicant's Authorizing Representative must sign this form.

(3) Place the PR/Award number in the upper right hand corner of the hard-copy signature page of the SF 424.

(4) Fax the signed SF 424 to the Application Control Center at (202) 245-6272.

• We may request that you provide us original signatures on other forms at a later date.

Application Deadline Date Extension in Case of System Unavailability: If you are prevented from electronically submitting your application on the application deadline date because e-Application is unavailable, we will grant you an extension of one business day to enable you to transmit your application electronically, by mail, or by hand delivery. We will grant this extension if—

(1) You are a registered user of e-Application and you have initiated an electronic application for this competition; and

(2)(a) E-Application is unavailable for 60 minutes or more between the hours of 8:30 a.m. and 3:30 p.m., Washington, DC time, on the application deadline date; or

(b) E-Application is unavailable for any period of time between 3:30 p.m. and 4:30:00 p.m., Washington, DC time, on the application deadline date.

We must acknowledge and confirm these periods of unavailability before granting you an extension. To request this extension or to confirm our acknowledgment of any system unavailability, you may contact either (1) the person listed elsewhere in this notice under FOR FURTHER INFORMATION CONTACT (see VII. Agency Contact) or (2) the e-Grants help desk at 1-888-336-8930. If e-Application is unavailable due to technical problems with the system and, therefore, the application deadline is extended, an e-mail will be sent to all registered users who have initiated an e-Application.

Extensions referred to in this section apply only to the unavailability of e-Application. If e-Application is available, and, for any reason, you are unable to submit your application electronically or you do not receive an automatic acknowledgment of your submission, you may submit your application in paper format by mail or hand delivery in accordance with the instructions in this notice.

b. Submission of Paper Applications by Mail.

If you submit your application in paper format by mail (through the U.S. Postal Service or a commercial carrier), you must mail the original and two copies of your application, on or before the application deadline date, to the Department at the following address: U.S. Department of Education, Application Control Center, Attention: (CFDA Number 84.326R), LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.326R), 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this grant notification within 15 business days from the application deadline date, you should call the U.S. Department of Education Application Control Center at (202) 245-6288.

V. Application Review Information

1. Selection Criteria: The selection criteria for this competition are from 34 CFR 75.210 and are listed in the application package.

2. Peer Review: In the past, the Department has had difficulty finding peer reviewers for certain competitions because so many individuals who are eligible to serve as peer reviewers have conflicts of interest. The Standing Panel requirements under IDEA also have placed additional constraints on the availability of reviewers. Therefore, the Department has determined that, for some discretionary grant competitions, applications may be separated into two or more groups and ranked and selected for funding within the specific groups. This procedure will make it easier for the Department to find peer reviewers by ensuring that greater numbers of individuals who are eligible to serve as reviewers for any particular group of applicants will not have conflicts of interest. It also will increase the quality, independence, and fairness of the review process while permitting panel members to review applications under discretionary grant competitions for which they also have submitted applications. However, if the Department decides to select an equal number of applications in each group for funding, this may result in different cut-off points for fundable applications in each group.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to: http://www.ed.gov/fund/grant/apply/appforms/appforms.html.

4. Performance Measures: Under the Government Performance and Results Act of 1993 (GPRA), the Department has established a set of performance measures, including long-term measures, that are designed to yield information on various aspects of the effectiveness and quality of the Technical Assistance and Dissemination to Improve Services and Results for Children With Disabilities program. These measures focus on the extent to which projects provide high-quality products and services, the relevance of project products and services to educational and early intervention policy and practice, and the use of products and services to improve educational and early intervention policy and practice.

Grantees will be required to report information on their project's performance in annual reports to the Department (34 CFR 75.590).

VII. Agency Contact

FOR FURTHER INFORMATION CONTACT: Rex Shipp, U.S. Department of Education, 400 Maryland Avenue, SW., Room 4178, Potomac Center Plaza (PCP), Washington, DC 20202-2550. Telephone: (202) 245-7523.

If you use a TDD, call the Federal Relay Service (FRS), toll free, at 1-800-877-8339.

VIII. Other Information

Accessible Format: Individuals with disabilities can obtain this document and a copy of the application package in an accessible format (e.g., braille, large print, audiotape, or computer diskette) by contacting the Grants and Contracts Services Team, U.S. Department of Education, 400 Maryland Avenue, SW., room 5075, PCP, Washington, DC 20202-2550. Telephone: (202) 245-7363. If you use a TDD, call the FRS, toll free, at 1-800-877-8339.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: November 30, 2009.
Alexa Posny,
Assistant Secretary for Special Education and Rehabilitative Services.

[FR Doc. E9-28873 Filed 12-2-09; 8:45 am]

BILLING CODE 4000-01-P